FEDERAL EMERGENCY MANAGEMENT AGENCY

Assistance to Firefighters—Fire Prevention and Safety Program

AGENCY: U.S. Fire Administration, Federal Emergency Management Agency (FEMA).

ACTION: Notice of availability of funds.

SUMMARY: FEMA gives notice of the availability of funds for FY 2002 under the Assistance to Firefighters Fire Prevention and Safety Program (the Program) as authorized the Federal Fire Prevention and Control Act of 1974. The Program will make available up to $10,000,000 of the total appropriated amount of $360,000,000 for fire prevention activities. FEMA will fund such activities based upon proposals that address the Program's priorities and maximize the benefits to be derived from the funds. FEMA is statutorily mandated to provide these funds to national, State, local, or community organizations that are recognized for their experience and expertise with respect to fire prevention or fire safety programs and activities. In selecting recipients, FEMA will give priority to organizations that focus on prevention of fire (or fire-related) injuries to children.

Authority: Federal Fire Prevention and Control Act of 1974 (Federal Fire Prevention and Control Act) 1701(a), 15 U.S.C. 2229 (2000).

DATES: This notice of funds availability is effective August 23, 2002.

FOR FURTHER INFORMATION CONTACT: Brian Cowan, Director, Grants Program Office, U.S. Fire Administration, Federal Emergency Management Agency, Room 304, 500 C St. SW., Washington DC 20472, 1-866-274-0960, or brian.cowan@fema.gov.

SUPPLEMENTARY INFORMATION:

A. Purpose

The purpose of this notice is to advise of the availability of funds for carrying out fire prevention activities pursuant to section 1701(a) of the Federal Fire Prevention and Control Act, 15 U.S.C. 2229. Up to ten million dollars ($10,000,000) will be available for this purpose. FEMA reserves the right to use a portion of these funds to supplement previously awarded prevention grants.

B. Eligibility

National, State, local, or community organizations that are recognized for their experience and expertise in fire prevention or safety programs and activities are eligible to apply for funding through the Program.

C. Program Requirements

1. Recipients of grants or parties entering into cooperative agreements through the Program may not receive more than $750,000 and must agree to maintain in the fiscal year for which the assistance will be received their aggregate expenditures for fire prevention activities at or above the average level of such expenditures in the two fiscal years preceding the fiscal year for which the assistance will be received. They must also agree to a match with non-Federal funds an amount of 30 percent of the assistance received or, in the case of fire departments whose personnel serve jurisdictions of 50,000 or fewer residents, an amount of 10 percent of the assistance received. The matching requirement may be met through in-kind contributions.

2. FEMA may, in its discretion, also enter into contracts for fire prevention activities in order to achieve overall program goals. These contracts may not be subject to the limitations and requirements set forth in the previous paragraph.

3. Fire Departments that receive assistance through the Program must provide information to the national fire incident reporting system (NFIRS) for the period covered by the assistance.

4. Grantees must submit a report to the Director describing how their assistance was used and of the benefits derived from the funded activities.

D. Application Process

Through the interim final rule for the Assistance to Firefighters Program published on February 27, 2002 in the Federal Register, FEMA invited letters of interest from organizations that wished to be considered for the funding through the Program. Letters were requested to reflect in general terms the content and context of proposed activities. FEMA will send application packets to organizations that submitted letters of interest and to organizations known to be experienced in the fire prevention/safety field. Additionally, other eligible organizations, as specified above in Section B, may request applications by e-mail usfagrants@fema.gov or by phone 866-274-0960. Completed application packages must be received by FEMA on or before September 23, 2002.

Applicants will be required to submit an application to FEMA that includes the following:

1. Application for Federal Assistance, Standard Form 424;

2. Budget Information—Non-construction Program, FEMA Form 20-20;

3. Direct Deposit Sign-up Form, Standard Form 1199A;

4. Summary Sheet for Assurances and Certification, FEMA Form 20-16, 20-16A, and 20-16C;

5. Disclosure of Lobbying Activities, Standard Form LLL; and

6. Program Narrative: The narrative describing the activities for which the funding is requested should not exceed 10 pages (double-spaced with one-inch margins and 12-point font). The narrative should also address the eligible activities, program priorities, and evaluation criteria included in Sections E and F.

Application packages will be reviewed for completeness and responsiveness to the following program requirements:

(a) General Information such as the history and description of your organization; a statement regarding the financial need of your organization and funding sources; your organization's capability to achieve proposed objectives and past successes at achievement of project goals; your organization's experience as it specifically relates to fire and injury prevention issues; and the qualifications of the project manager and primary team members.

(b) A project overview, which includes, but is not limited to: a problem statement, including the issues to be addressed, project goals and objectives or tasks to achieve the goals; a description of what will be accomplished during the grant performance period and an explanation of how the project will address the stated problem; a project description addressing the following questions as applicable:

(1) Will this establish a new program, expand an existing program into new areas; or augment an existing fire prevention program?

(2) Who is the target audience: FEMA-identified target population (children under the age of 14, seniors over 65 years of age, and firefighters), or another high-risk population?

(3) Will this program enhance the FEMA fire safety campaign to assist Americans in installing smoke alarms (as well as checking detectors and batteries to make sure they work), planning and practicing escape routes, and conducting home fire safety walkthroughs? If so, describe how.

(4) Will this program establish a multi-organization partnership with other groups in the community? If so describe how.

(c) List of Project benchmarks, phases, or milestones.

(d) Describe the method or procedure for implementation of your project.

(e) Include a detailed explanation of your project's budget including a cost-benefit assessment. The explanation should compare the benefits to be realized with the costs of achieving those benefits.

(f) If the program will be continued beyond the grant period, include an explanation of the means with which it will be sustained.

(g) Describe the methodology that will be used to assess and evaluate the effectiveness of the program.

E. Eligible Activities and Program Priorities

Fire prevention and safety programs are the only eligible activities under the Program and, in particular, those that will reach a significant number of individuals.

FEMA will give priority to programs that focus on the prevention of fire-related injuries to children. Although other programs that address fire prevention and safety may also be considered, the following list provides examples of programs that FEMA deems to be a high funding priority:

(1) Projects that focus on distributing smoke detectors and checking to assure detectors are operational, planning and practicing escape routes, or conducting home fire safety walkthroughs;

(2) Fire prevention programs targeting high-risk audiences, including those that:

(a) Enhance national, state, or local efforts to reduce fires and burn injuries affecting children under the age of 14 or adults over 65.

(b) Target geographical areas with a higher incidence of fire related deaths and injuries based on a five-year history of data from NFIRS or other national data centers (either in absolute numbers or per capita).

(c) Include the translation or development of public education materials aimed at high-risk populations. There is a higher emphasis on development of educational materials in languages other than English or Spanish (because development of these types of materials were funded in FY 01), although purchasing and distributing educational materials in any language are eligible.

(d) Develop fire prevention material using universal signs and symbols that do not include any language or are complete regardless of the language.

(3) Projects in urban neighborhoods that target at-risk populations, involve a partnership or consortium made up of local organizations, such as fire departments, civic organizations, high schools or citizen's task forces, and that include conducting door-to-door home safety checks and distributing smoke detectors and batteries to at least 50 percent of the residents of the neighborhood.

(4) Projects that affect the entire community such as educating the public about residential sprinklers, promoting residential sprinklers, and demonstrating working models of residential sprinklers, adopting or strengthening building codes and enforcement, improving engineering, and enacting fire-related ordinances for new construction are encouraged.

(5) FEMA will consider innovative projects that have a high probability of successfully achieving the Program goals. FEMA reserves the right to work with applicants in developing programs proposed in their applications.

F. Evaluation Criteria

Proposals will be reviewed to determine the degree to which they address the following:

(1) Involves a partnership between the fire department and the community in planning and practicing escape routes or conducting home fire safety walkthroughs;

(2) Targets geographical areas with a higher incidence of fire related deaths and injuries based on a five-year history of data from NFIRS or other national data centers (either in numbers or in per capita);

(3) Is designed to correct problems based on regional or local trends based on fire loss data;

(4) Proposes a program that will be sustained beyond the grant performance period and has a greater potential for long-term benefits;

(5) The Project describes a sound planned approach for getting the prevention message to targeted audiences;

(6) The Project presents a high benefit for the cost incurred and has minimal overhead or administrative costs;

(7) Comes from an organization with a successful track record and is capable of implementing the fire safety program that will help achieve program goals;

(8) Contributes to the national or local effort on fire and burn injury prevention to children under the age of 14 or other at-risk groups; and

(9) Has a high potential for achieving the overall goals and priorities of the Firefighters Assistance Grant Program and the USFA.

FEMA will use the above criteria in making the funding decisions. FEMA considers these criteria to be of equal weight. In general, proposals that adequately address more of the criteria, and meet the program priorities, will be more likely to receive favorable consideration. FEMA intends to use non-federal experts to assist with the preliminary review of proposals. FEMA will use the expert analysis as part of the basis for its decisions. In addition, in making final decisions on funding, FEMA reserves the right to fund a variety of projects consistent with section E above.

Dated: August 19, 2002.
R. David Paulison,
Administrator, United States Fire Administration.

[FR Doc. 02-21504 Filed 8-22-02; 8:45 am]

BILLING CODE 6718-02-P